DEPARTMENT OF STATE

[Public Notice 8260]

U.S. Department of State Advisory Committee on Private International Law (ACPIL): Public Meeting on Electronic Commerce

The Office of the Assistant Legal Adviser for Private International Law, Department of State, gives notice of a public meeting to discuss a Note by the Secretariat of the United Nations Commission on International Trade Law (UNCITRAL) containing draft provisions on electronic transferable records. The public meeting will take place on Tuesday, April 30, 2013 from 10 a.m. until 2 p.m. EDT in Room 1107 of the Department of State's Harry S Truman Building. This is not a meeting of the full Advisory Committee.

In response to a request from the 46th Session of UNCITRAL's Working Group IV (electronic commerce), the UNCITRAL Secretariat has prepared draft provisions on electronic transferable records, which are presented for discussion purposes in the form of a model law. The draft provisions will be made available as Working Paper 122 on the UNCITRAL Web site, in the list of documents provided for the 47th Session of Working Group IV and will be available via the following link: (http://www.uncitral.org/uncitral/en/commission/working_groups/4Electronic_Commerce.html). This Working Paper will be discussed May 13-17, 2013, at the 47th Session of Working Group IV.

The purpose of the public meeting is to obtain the views of concerned stakeholders on these topics in advance of the meeting of Working Group IV.

Prior to the public meeting, we will send out—to all those who indicate that they intend to attend the meeting or participate by telephone, or who otherwise wish to comment—the documents prepared for this meeting. Those who cannot attend but wish to comment are welcome to do so by email to Michael Coffee at coffeems@state.gov.

Time and Place: The meeting will take place in Room 1107 of the Department's Harry S Truman Building, 2201 C Street NW., Washington, DC 20520 from 10 a.m. until 2 p.m. EDT. Participants should plan to arrive by 9:30 a.m. for visitor screening. If you are unable to attend the public meeting and would like to participate from a remote location, teleconferencing will be available.

Public Participation: This meeting is open to the public, subject to the capacity of the meeting room. Please provide your full name and contact information if you are planning on attending in person. Access to the building is strictly controlled. For pre-clearance purposes, those planning to attend should phone Tricia Smeltzer (202-776-8423) or Niesha Toms (202-776-8420) and provide your full name, address, date of birth, citizenship, driver's license or passport number, and email address. This will greatly facilitate entry into the building. Participants will be met inside the diplomatic entrance at C Street and, once badges are obtained, escorted to the meeting room. A member of the public needing reasonable accommodation should advise Ms. Smeltzer or Ms. Toms not later than April 23, 2013. Requests made after that date will be considered, but might not be able to be fulfilled. If you would like to participate by telephone, please contact Ms. Smeltzer or Ms. Toms to obtain the call-in number and other information.

Data from the public is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Privacy Impact Assessment for VACS-D at http://www.state.gov/documents/organization/100305.pdf for additional information.

Dated: March 20, 2013.
Michael S. Coffee,
Attorney-Adviser, Office of Private International Law, Office of Legal Adviser, Department of State.

[FR Doc. 2013-07255 Filed 3-27-13; 8:45 am]

BILLING CODE 4710-08-P